DEPARTMENT OF COMMERCE

National Oceanic and Atmospheric Administration

[I.D. 083002B]

North Pacific Fishery Management Council; Public Meeting

AGENCY: National Marine Fisheries Service (NMFS), National Oceanic and Atmospheric Administration (NOAA), Commerce.

ACTION: Notice of committee meeting.

SUMMARY: The North Pacific Fishery Management Council’s (Council) Bering Sea Crab Plan Team will hold a public meeting.

DATES: The meeting will be held on September 19-20, 2002.

ADDRESSES: The meeting will be held at the Hilton Anchorage Hotel, 500 W 3rd Avenue, in the Fireweed Room, Anchorage, AK 99501.

Council address: North Pacific Fishery Management Council, 605 W. 4th Ave., Suite 306, Anchorage, AK 99501-2252.

FOR FURTHER INFORMATION CONTACT: Council Staff: 907-271-2809.

SUPPLEMENTARY INFORMATION: On Thursday, the 19th of September, the Plan Team will meet starting at 1 p.m. through Friday the 20th.

Agenda items include: assembling the 2002 Bering Sea and Aleutian Islands (BSAI) King and Tanner Crab Stock Assessment Fishery Evaluation (SAFE), reviewing BSAI King and Tanner survey information and guideline harvest limits (GHLs) for the 2002-03 fishery season, reviewing a report on reference points and overfishing definitions, and developing recommendations for BSAI King and Tanner crab fisheries.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Gail Bendixen, 907-271-2809, at least 5 working days prior to the meeting date.

Dated: August 30, 2002.
Theophilus R. Brainerd,
Acting Director, Office of Sustainable Fisheries, National Marine Fisheries Service.

[FR Doc. 02-22619 Filed 9-4-02; 8:45 am]

BILLING CODE 3510-22-S